DEPARTMENT OF ENERGY

Federal Energy Regulatory Commission

[Project No. 2853-073]

Montana Department of Natural Resources and Conservation; Notice of Application Ready for Environmental Analysis and Soliciting Comments, Recommendations, Terms and Conditions, and Prescriptions

Take notice that the following hydroelectric application has been filed with the Commission and is available for public inspection.

a. Type of Application: New Major License.

b. Project No.: 2853-073.

c. Date filed: June 30, 2022.

d. Applicant: Montana Department of Natural Resources and Conservation (Montana DNRC).

e. Name of Project: Broadwater Hydroelectric Project (project).

f. Location: On the Missouri River near the town of Toston in Broadwater County, Montana. The project is adjacent to and includes federal lands administered by the Bureau of Land Management.

g. Filed Pursuant to: Federal Power Act 16 U.S.C. 791(a)-825(r).

h. Applicant Contact: David Lofftus, Hydro Power Program Manager, Montana Department of Natural Resources and Conservation, 1424 9th Avenue, P.O. Box 201601, Helena, Montana 59620; Phone at (406) 444-6659; or email at dlofftus@mt.gov

i. FERC Contact: Ingrid Brofman at (202) 502-8347, or Ingrid.brofman@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Broadwater Hydroelectric Project (P-2853-073).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Broadwater Hydroelectric Project consists of: (1) a 630-foot-long, 24-foot-high concrete gravity dam with a 360-foot-long spillway containing seven inflatable rubber gates capable of raising the dam's crest elevation by 11 feet; (2) a 275-acre, 9-mile-long reservoir; (3) a 160-foot long rock jetty that extends upstream into the reservoir that serves to separate inflow to the powerhouse from the headworks of the non-project irrigation canal adjacent to the dam; (4) an intake integral with the powerhouse and covered by two inclined trashracks, each 20 feet wide and 40 feet high, with a clear bar spacing of 3 inches; (5) a 160-foot-long, 46-foot-wide, 64-foot high powerhouse containing a single Kaplan turbine with a rated capacity of 9.66 megawatts; (6) a 100-kilovolt, 2.8-mile-long transmission line; and (6) appurtenant facilities.

The project is operated in a run-of-river mode and generates an estimated average of 40,669 megawatt-hours per year.

Montana DNRC proposes to remove the jetty that separates the hydropower intake and the irrigation canal intake and install two parallel 100-foot-long, 10-foot-wide by 10-foot-high box culverts within the irrigation intake canal and a bulkhead near the current irrigation headworks. Once these facilities are installed, any water diverted for irrigation would first pass through a new angled screen with 6-inch spacing between the bars and then pass through the two new box culverts before entering the existing irrigation intake at the dam. The existing irrigation intake and facilities at the dam conveying water to the Broadwater-Missouri irrigation canal system would remain in place. Montana DNRC proposes to include the new tilted screen and box culverts as licensed project facilities.

Montana DNRC also proposes to modernize the project trash rake (i.e., replace and recalibrate sensors on the rake) to minimize debris buildup on the dam intake and to upgrade its SCADA monitoring system (i.e., improving connectivity to the substation, protective relaying, and automation upgrades).

Montana DNRC proposes to continue to operate the project in an automated run-of-river mode throughout the year where outflow from the project approximates inflow (minus flows diverted for irrigation). Montana DNRC proposes to modify its procedures for responding to an unplanned unit trip to reduce the potential for fish stranding downstream of the project.

m. A copy of the application is available for review via the internet through the Commission's Home Page (http://www.ferc.gov), using the “eLibrary” link. Enter the docket number, excluding the last three digits in the docket number field, to access the document. At this time, the Commission has suspended access to the Commission's Public Reference Room. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Milestone | Target date
Deadline for Filing Comments, Recommendations, and Agency Terms and Conditions/Prescriptions | September 2023.
Licensee's Reply to REA Comments | October 2023.

p. Final amendments to the application must be filed with the Commission no later than 30 days from the issuance date of this notice.

Dated: July 7, 2023.
Debbie-Anne A. Reese,
Deputy Secretary.

[FR Doc. 2023-14899 Filed 7-13-23; 8:45 am]

BILLING CODE 6717-01-P